DEPARTMENT OF ENERGY

Federal Energy Regulatory Commission

[Docket No. RP02-338-001]

Natural Gas Pipeline Company of America; Notice of Motion to Make Effective Proposed Changes in FERC Gas Tariff

October 16, 2002.

Take notice that on October 10, 2002, Natural Gas Pipeline Company of America (Natural) filed a motion to make certain tariff sheets effective on November 10, 2002.

Natural states that the purpose of this filing is to move into effect certain tariff sheets which, in the Commission's Order Accepting Tariff Sheet and Conditionally Accepting and Suspending Other Tariff Sheets Subject to Refund and Establishing a Technical Conference dated June 7, 2002 were conditionally accepted and suspended, subject to refund. Natural has also proposed some additional revisions in certain of these tariff sheets to address issues raised in protests.

Natural requests waivers of the Commission's Regulations to the extent necessary to permit these tariff sheets to become effective November 10, 2002.

Natural states that copies of the filing are being mailed to all parties on the official service list in this docket.

Any person desiring to protest said filing should file a protest with the Federal Energy Regulatory Commission, 888 First Street, NE., Washington, DC 20426, in accordance with section 385.211 of the Commission's rules and regulations. All such protests must be filed on or before October 23, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-26947 Filed 10-22-02; 8:45 am]

BILLING CODE 6717-01-P